DEPARTMENT OF HEALTH AND HUMAN SERVICES

Centers for Disease Control and Prevention

[30-Day-11-0307]

Agency Forms Undergoing Paperwork Reduction Act Review

The Centers for Disease Control and Prevention (CDC) publishes a list of information collection requests under review by the Office of Management and Budget (OMB) in compliance with the Paperwork Reduction Act (44 U.S.C. chapter 35). To request a copy of these requests, call 404-639-4604 or send comments to Carol Walker, CDC Acting Reports Clearance Officer, 1600 Clifton Road, MS-D74, Atlanta, GA 30333 or send an e-mail to omb@cdc.gov. Send written comments to CDC Desk Officer, Office of Management and Budget, Washington, DC or by fax to (202) 395-5806. Written comments should be received within 30 days of this notice.

Proposed Project

Gonococcal Isolate Surveillance Project (GISP), (OMB No. 0920-0307)—Extension—National Center for HIV/AIDS, Viral Hepatitis, STD, and TB Prevention (NCHHSTP), Centers for Disease Control and Prevention (CDC).

Background and Brief Description

CDC is requesting a 3-year extension without change for this project. The objectives of GISP are to monitor trends in antimicrobial susceptibility of Neisseria gonorrhoeae strains in the U.S. and to characterize resistant isolates. Monitoring antibiotic susceptibility is critical since Neisseria gonorrhoeae has demonstrated the consistent ability to gain antibiotic resistance. GISP provides critical surveillance for antimicrobial resistance, allowing for informed treatment recommendations.

This project involves 5 regional laboratories and 30 sexually transmitted disease (STD) clinics operated by the local health departments around the country. The STD clinics submit up to 25 gonococcal isolates per month to the Regional laboratories to measure susceptibility to a panel of antibiotics. Limited demographic and clinical information corresponding to the isolates are submitted directly by the STD clinics to CDC.

During 1986-2009, GISP has demonstrated the ability to effectively achieve its objectives. The emergence of resistance in the United States to penicillin, tetracyclines, and fluoroquinolones among N. gonorrhoeae isolates was identified through GISP. Increased prevalence of fluoroquinolone-resistant N. gonorrhoeae (QRNG), as documented by GISP data, prompted CDC to update the treatment recommendations for gonorrhea in CDC's Sexually Transmitted Diseases Treatment Guidelines, 2006 and to release an MMWR article stating that CDC no longer recommended fluoroquinolones for treatment of gonococcal infections. There are no costs to respondents other than their time. Respondents receive Federal funds to participate in this project. The total annual burden is estimated to be 8,568 hours.

Type of respondent | Form name | Number of respondents | Number of responses per respondent | Average burden per response (in hours)
Clinic | Form 1 | 30 | 240 | 11/60
Laboratory | Form 2 | 5 | 1,440 | 1
| Form 3 | 5 | 48 | 12/60
Total |  | 40 |  |

Dated: October 27, 2010.
Carol Walker,
Acting Reports Clearance Officer, Centers for Disease Control and Prevention.

[FR Doc. 2010-27604 Filed 11-1-10; 8:45 am]

BILLING CODE 4163-18-P